JUDICIAL CONFERENCE OF THE UNITED STATES

Meeting of the Judicial Conference Advisory Committee on Rules of Criminal Procedure

AGENCY: Advisory Committee on Rules of Criminal Procedure, Judicial Conference of the United States.

ACTION: Notice of open meeting.

SUMMARY: The Advisory Committee on Rules of Criminal Procedure will hold a two-day meeting. The meeting will be open to public observation but not participation.

DATES: May 6-7, 2004.

TIME: 8:30 a.m. to 5 p.m.

ADDRESSES: Monterey Plaza Hotel, Ocean Club Library, 400 Cannery Row, Monterey, California.

FOR FURTHER INFORMATION CONTACT: John K. Rabiej, Chief, Rules Committee Support Office, Administrative Office of the United States Courts, Washington, DC 20544, telephone (202) 502-1820.

Dated: March 29, 2004.
John K. Rabiej,
Chief, Rules Committee Support Office.

[FR Doc. 04-7446 Filed 4-1-04; 8:45 am]

BILLING CODE 2210-55-M